DEPARTMENT OF AGRICULTURE

Food Safety and Inspection Service

[Docket No. 01-004N]

Codex Alimentarius Commission: 2nd Session, Ad Hoc Intergovernmental Task Force on Foods Derived From Biotechnology

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring two public meetings, on Tuesday, February 13, and on Wednesday, March 7, 2001. The purpose of these meetings is to provide information and receive public comments on draft United States' positions and agenda items that will be discussed at the 2nd Session of the Ad Hoc Intergovernmental Task Force on Foods Derived From Biotechnology, which will be held in Chiba, Japan, March 25-29, 2001. The Under Secretary and FDA recognize the importance of providing interested parties the opportunity to obtain background information on the 2nd Session, Ad Hoc Intergovernmental Task Force on Foods Derived From Biotechnology, and address items on the agenda.

DATES: The public meetings are scheduled for Tuesday, February 13, 2001, from 1 p.m. to 4 p.m., and on Wednesday, March 7, 2001, 1 p.m. to 4 p.m.

ADDRESSES: The public meeting will be held in Conference Room 1409, Federal Office Building 8, Food and Drug Administration, 200 C Street, SW., Washington, DC 20204. Reference documents will be available for review in the FSIS Docket Room, U.S. Department of Agriculture, Food Safety and Inspection Service, Room 102 Cotton Annex, 300 12th Street, SW., Washington, DC 20250-3700. The documents will also be accessible via the World Wide Web at the following address: http://www.fao.org/waicent/faoinfo/ECONOMIC/esn/codex/ccfbt2/bt01_01e.htm. Submit one original and two copies of written comments to the FSIS Docket Room at the address above and reference docket number 01-004N. All comments submitted in response to this notice will be available for public inspection in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250. Telephone (202) 205-7760, Fax (202) 720-3157. Persons requiring a sign language interpreter or other special accommodations should notify Mr. Clerkin at the above number.

SUPPLEMENTARY INFORMATION:

Background

The Codex Alimentarius Commission (Codex) was established in 1962 by two United Nations Organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. Codex, at its 23rd Session, established the Ad Hoc Intergovernmental Task Force on Foods Derived From Biotechnology to develop standards, guidelines, or recommendations, as appropriate, for foods derived from biotechnology or traits introduced into foods by biotechnology, on the basis of scientific evidence, risk analysis and having regard, where appropriate, to other legitimate factors relevant to the health of consumers and the promotion of fair trade practices. The Task Force is chaired by the government of Japan.

Issues To Be Discussed at the Public Meetings

The provisional agenda items and the relevant documents to be discussed during the public meetings:

1. Adoption of the Agenda, Document CX/FBT 01/1

2. Matters Referred to the Task Force by Other Codex Committees, Document CX/FBT 01/2

3. Matters of Interest from Other International Organizations with respect to the Evaluation of the Safety and Nutrition Aspects of Foods Derived from Biotechnology, Document CX/FBT 01/3

4. Consideration of Proposed Draft General Principles for the Risk Analysis of Foods Derived from Modern Biotechnology at Step 4, Document CX/FBT 01/4, and Comments submitted at Step 3, Document CX/FBT 01/4 Add.1

5. Consideration of Proposed Draft Guideline for the Conduct of Safety Assessment of Foods Derived from Recombinant-DNA Plants at Step 4, Document CX/FBT 01/5, and Comments submitted at Step 3, Document CX/FBT 01/5 Add.1

6. Discussion Paper on Traceability, Document CX/FBT 01/6

7. Information Paper on Familiarity, Document CX/FBT 01/7

8. Consideration of Analytical Methods, Document CX/FBT 01/8

9. Other Business, Future Work and Date and Place of Next Session

In advance of these meetings, the U.S. Delegate to the Task Force will have assigned responsibility for development of U.S. positions on these issues to members of government. The individuals assigned responsibility will be named at these meetings and will take comment on and develop draft U.S positions. All interested parties are invited to provide information and comments on the above issues, or on any other issues that may be brought before the Task Force.

Public Meetings

At the February 13th public meeting, the issues will be described, discussed, and attendees will have the opportunity to pose questions and offer comments. At the March 7th public meeting, draft United States' positions on the issues will be described, discussed, and attendees will have the opportunity to pose questions and offer comments. Please state that your comments relate to Task Force activities and specify which issues your comments address.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on February 6, 2001.
F. Edward Scarbrough,
U.S. Manager for Codex Alimentarius.

[FR Doc. 01-5037 Filed 3-1-01; 8:45 am]

BILLING CODE 3410-DM-P